DEPARTMENT OF ENERGY

Federal Energy Regulatory Commission

Combined Notice of Filings #1

Take notice that the Commission received the following exempt wholesale generator filings:

Docket Numbers: EG24-209-000.

Applicants: Calhoun County Solar Project, LLC.

Description: Calhoun County Solar Project, LLC submits Notice of Self-Certification of Exempt Wholesale Generator Status.

Filed Date: 6/20/24.

Accession Number: 20240620-5350.

Comment Date: 5 p.m. ET 7/11/24.

Take notice that the Commission received the following Complaints and Compliance filings in EL Dockets:

Docket Numbers: EL24-118-000.

Applicants: Joint Consumer Advocates v. PJM Interconnection, L.L.C.

Description: Complaint of Joint Consumer Advocates v. PJM Interconnection, L.L.C.

Filed Date: 6/20/24.

Accession Number: 20240620-5341.

Comment Date: 5 p.m. ET 7/10/24.

Take notice that the Commission received the following electric rate filings:

Docket Numbers: ER24-1221-001.

Applicants: Southwest Power Pool, Inc.

Description: Compliance filing: Compliance Filing in Response to May 23 Order to be effective 4/10/2024.

Filed Date: 6/21/24.

Accession Number: 20240621-5071.

Comment Date: 5 p.m. ET 7/12/24.

Docket Numbers: ER24-1548-000.

Applicants: Community Energy, Inc.

Description: Notice of Cancellation of Market Based Rate Tariff of Community Energy, Inc.

Filed Date: 3/13/24.

Accession Number: 20240313-5239.

Comment Date: 5 p.m. ET 7/12/24.

Docket Numbers: ER24-2149-001.

Applicants: Entergy Arkansas, LLC.

Description: Tariff Amendment: Union Electric WDS Agreement to be effective 8/1/2024.

Filed Date: 6/20/24.

Accession Number: 20240620-5265.

Comment Date: 5 p.m. ET 7/11/24.

Docket Numbers: ER24-2326-000.

Applicants: Avista Corporation.

Description: 205(d) Rate Filing: Avista RS T1158-2 NorthernGrid Cert Of Concurrence to be effective 1/1/2024.

Filed Date: 6/20/24.

Accession Number: 20240620-5308.

Comment Date: 5 p.m. ET 7/11/24.

Docket Numbers: ER24-2327-000.

Applicants: Calhoun County Solar Project, LLC.

Description: Baseline eTariff Filing: Calhoun County Solar Project, LLC MBR Tariff to be effective 7/1/2024.

Filed Date: 6/20/24.

Accession Number: 20240620-5340.

Comment Date: 5 p.m. ET 7/11/24.

Docket Numbers: ER24-2328-000.

Applicants: Southwest Power Pool, Inc.

Description: 205(d) Rate Filing: 1883R14 Evergy Kansas Central, Inc. NITSA NOA to be effective 9/1/2024.

Filed Date: 6/21/24.

Accession Number: 20240621-5018.

Comment Date: 5 p.m. ET 7/12/24.

Docket Numbers: ER24-2329-000.

Applicants: Southwest Power Pool, Inc.

Description: 205(d) Rate Filing: 1885R14 Evergy Kansas Central, Inc. (Bronson) NITSA NOA to be effective 9/1/2024.

Filed Date: 6/21/24.

Accession Number: 20240621-5027.

Comment Date: 5 p.m. ET 7/12/24.

Docket Numbers: ER24-2330-000.

Applicants: MATL LLP.

Description: 205(d) Rate Filing: Glacier Wind E&P Agreement to be effective 6/22/2024.

Filed Date: 6/21/24.

Accession Number: 20240621-5031.

Comment Date: 5 p.m. ET 7/12/24.

Docket Numbers: ER24-2331-000.

Applicants: MATL LLP.

Description: 205(d) Rate Filing: TSR with AlbertaEx to be effective 8/21/2024.

Filed Date: 6/21/24.

Accession Number: 20240621-5034.

Comment Date: 5 p.m. ET 7/12/24.

Docket Numbers: ER24-2332-000.

Applicants: Northern Indiana Public Service Company LLC.

Description: 205(d) Rate Filing: Oregon CIAC Agreement to be effective 6/10/2024.

Filed Date: 6/21/24.

Accession Number: 20240621-5035.

Comment Date: 5 p.m. ET 7/12/24.

Docket Numbers: ER24-2333-000.

Applicants: Southwest Power Pool, Inc.

Description: 205(d) Rate Filing: 1887R14 Evergy Kansas Central, Inc. (Elsmore) NITSA NOA to be effective 9/1/2024.

Filed Date: 6/21/24.

Accession Number: 20240621-5046.

Comment Date: 5 p.m. ET 7/12/24.

Docket Numbers: ER24-2334-000.

Applicants: Southwest Power Pool, Inc.

Description: 205(d) Rate Filing: 1889R13 Evergy Kansas Central, Inc. NITSA NOA to be effective 9/1/2024.

Filed Date: 6/21/24.

Accession Number: 20240621-5052.

Comment Date: 5 p.m. ET 7/12/24.

Docket Numbers: ER24-2335-000.

Applicants: Southwest Power Pool, Inc.

Description: 205(d) Rate Filing: 1891R13 Evergy Kansas Central, Inc. NITSA NOA to be effective 9/1/2024.

Filed Date: 6/21/24.

Accession Number: 20240621-5057.

Comment Date: 5 p.m. ET 7/12/24.

Docket Numbers: ER24-2336-000.

Applicants: Duquesne Light Company, PJM Interconnection, L.L.C.

Description: 205(d) Rate Filing: Duquesne Light Company submits tariff filing per 35.13(a)(2)(iii: PJM TOs' Amendments to the Consolidated Transmission Owners Agreement to be effective 9/20/2024.

Filed Date: 6/21/24.

Accession Number: 20240621-5058.

Comment Date: 5 p.m. ET 7/12/24.

Docket Numbers: ER24-2337-000.

Applicants: Tri-State Generation and Transmission Association, Inc.

Description: 205(d) Rate Filing: Initial Filing of Rate Schedule No. 374 to be effective 5/22/2024.

Filed Date: 6/21/24.

Accession Number: 20240621-5065.

Comment Date: 5 p.m. ET 7/12/24.

Docket Numbers: ER24-2338-000.

Applicants: PJM Interconnection, L.L.C.

Description: 205(d) Rate Filing: Revisions to OATT Facilitating PJM Independent 205 Filing Rights to be effective 12/31/9998.

Filed Date: 6/21/24.

Accession Number: 20240621-5080.

Comment Date: 5 p.m. ET 7/12/24.

Docket Numbers: ER24-2339-000.

Applicants: Alabama Power Company, Georgia Power Company, Mississippi Power Company.

Description: 205(d) Rate Filing: Alabama Power Company submits tariff filing per 35.13(a)(2)(iii: Longleaf Solar LGIA Filing to be effective 6/7/2024.

Filed Date: 6/21/24.

Accession Number: 20240621-5081.

Comment Date: 5 p.m. ET 7/12/24.

Docket Numbers: ER24-2340-000.

Applicants: Alabama Power Company, Georgia Power Company, Mississippi Power Company.

Description: 205(d) Rate Filing: Alabama Power Company submits tariff filing per 35.13(a)(2)(iii: Split Timber Solar LGIA Filing to be effective 6/10/2024.

Filed Date: 6/21/24.

Accession Number: 20240621-5082.

Comment Date: 5 p.m. ET 7/12/24.

Docket Numbers: ER24-2341-000.

Applicants: Tri-State Generation and Transmission Association, Inc.

Description: 205(d) Rate Filing: Amendment to Rate Schedule FERC No. 37 to be effective 8/20/2024.

Filed Date: 6/21/24.

Accession Number: 20240621-5113.

Comment Date: 5 p.m. ET 7/12/24.

Docket Numbers: ER24-2342-000.

Applicants: PJM Interconnection, L.L.C.

Description: 205(d) Rate Filing: Original Service Agreement No. 7289—NITSA among PJM and City of Hagerstown to be effective 8/21/2024.

Filed Date: 6/21/24.

Accession Number: 20240621-5134.

Comment Date: 5 p.m. ET 7/12/24.

Docket Numbers: ER24-2343-000.

Applicants: Southwest Power Pool, Inc.

Description: 205(d) Rate Filing: Revisions to Automate Settlements Processes Related to Local Reliability Events to be effective 10/16/2024.

Filed Date: 6/21/24.

Accession Number: 20240621-5145.

Comment Date: 5 p.m. ET 7/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 21, 2024.
Debbie-Anne A. Reese,
Acting Secretary.

[FR Doc. 2024-14134 Filed 6-26-24; 8:45 am]

BILLING CODE 6717-01-P